DEPARTMENT OF ENERGY

Federal Energy Regulatory Commission

Combined Notice of Filings #1

Take notice that the Commission received the following electric rate filings:

Docket Numbers: ER18-1906-001; ER16-221-002; ER18-1907-001; ER17-1757-002; ER10-1767-004; ER10-1532-004; ER10-1541-005; ER10-1642-006; ER13-2349-003; ER13-2350-003.

Applicants: Entergy Arkansas, LLC, Entergy Louisiana, LLC, Entergy Mississippi, LLC, Entergy New Orleans, LLC, Entergy Texas, Inc., Entergy Nuclear Palisades, LLC, Entergy Power, LLC, EWO Marketing, LLC, EAM Nelson Holding, LLC, RS Cogen, LLC.

Description: Notification of Change in Status of the Entergy Central MBR Utilities.

Filed Date: 6/24/19.

Accession Number: 20190624-5177.

Comments Due: 5 p.m. ET 7/15/19.

Docket Numbers: ER18-2002-002.

Applicants: Essential Power Rock Springs, LLC.

Description: Compliance filing: Settlement Compliance Filing to be effective 9/14/2018.

Filed Date: 6/25/19.

Accession Number: 20190625-5042.

Comments Due: 5 p.m. ET 7/16/19.

Docket Numbers: ER18-2270-003.

Applicants: Paulding Wind Farm III LLC.

Description: Compliance filing: Compliance Filing Under ER19-2270 to be effective 10/20/2018.

Filed Date: 6/25/19.

Accession Number: 20190625-5009.

Comments Due: 5 p.m. ET 7/16/19.

Docket Numbers: ER18-2317-003.

Applicants: Meadow Lake Wind Farm V LLC.

Description: Compliance filing: Compliance Filing Under ER19-2317 to be effective 10/27/2018.

Filed Date: 6/25/19.

Accession Number: 20190625-5008.

Comments Due: 5 p.m. ET 7/16/19.

Docket Numbers: ER19-2241-000.

Applicants: Midcontinent Independent System Operator, Inc., International Transmission Company, Michigan Electric Transmission Company.

Description: § 205(d) Rate Filing: 2019-06-24_ITC Schedule 33 Blackstart to be effective 8/24/2019.

Filed Date: 6/24/19.

Accession Number: 20190624-5156.

Comments Due: 5 p.m. ET 7/15/19.

Docket Numbers: ER19-2242-000.

Applicants: Southwest Power Pool, Inc.

Description: § 205(d) Rate Filing: 1977R13 Nemaha-Marshall Electric Cooperative NITSA NOA to be effective 9/1/2019.

Filed Date: 6/25/19.

Accession Number: 20190625-5038.

Comments Due: 5 p.m. ET 7/16/19.

Docket Numbers: ER19-2243-000.

Applicants: Southwest Power Pool, Inc.

Description: § 205(d) Rate Filing: 1636R23 Kansas Electric Power Cooperative, Inc. NITSA NOA to be effective 9/1/2019.

Filed Date: 6/25/19.

Accession Number: 20190625-5045.

Comments Due: 5 p.m. ET 7/16/19.

Docket Numbers: ER19-2244-000.

Applicants: Southwest Power Pool, Inc.

Description: § 205(d) Rate Filing: 2900R11 KMEA NITSA NOA to be effective 9/1/2019.

Filed Date: 6/25/19.

Accession Number: 20190625-5060.

Comments Due: 5 p.m. ET 7/16/19.

Docket Numbers: ER19-2245-000.

Applicants: Midcontinent Independent System Operator, In., ALLETE, Inc.

Description: § 205(d) Rate Filing: 2019-06-25_SA 3318 MP-Enbridge Reimbursement Agreement (Swatara) to be effective 6/25/2019.

Filed Date: 6/25/19.

Accession Number: 20190625-5070.

Comments Due: 5 p.m. ET 7/16/19.

Docket Numbers: ER19-2246-000.

Applicants: Wellhead Power Gates, LLC.

Description: Tariff Cancellation: Notice of Cancellation of MBR Tariff to be effective 8/23/2019.

Filed Date: 6/25/19.

Accession Number: 20190625-5081.

Comments Due: 5 p.m. ET 7/16/19.

Docket Numbers: ER19-2247-000.

Applicants: AEP Texas Inc.

Description: § 205(d) Rate Filing: AEPTX-Big Country EC-Golden Spread EC IA 1st Amend & Restated to be effective 6/12/2019.

Filed Date: 6/25/19.

Accession Number: 20190625-5100.

Comments Due: 5 p.m. ET 7/16/19.

Docket Numbers: ER19-2248-000.

Applicants: Pacific Gas and Electric Company.

Description: § 205(d) Rate Filing: Amendment to Extend CCSF Hunters Point (SA 36) to be effective 7/1/2019.

Filed Date: 6/25/19.

Accession Number: 20190625-5101.

Comments Due: 5 p.m. ET 7/16/19.

Docket Numbers: ER19-2249-000.

Applicants: CSOLAR IV West, LLC.

Description: § 205(d) Rate Filing: Market-Based Rate Tariff Revisions to be effective 6/26/2019.

Filed Date: 6/25/19.

Accession Number: 20190625-5102.

Comments Due: 5 p.m. ET 7/16/19.

Docket Numbers: ER19-2250-000.

Applicants: TrailStone Energy Marketing, LLC.

Description: § 205(d) Rate Filing: Name change filing Normal 2019 to be effective 6/26/2019.

Filed Date: 6/25/19.

Accession Number: 20190625-5103.

Comments Due: 5 p.m. ET 7/16/19.

Take notice that the Commission received the following electric securities filings:

Docket Numbers: ES19-36-000.

Applicants: NorthWestern Corporation.

Description: Application for Authorization Under Section 204 of the Federal Power Act to Issue Securities of NorthWestern Corporation.

Filed Date: 6/25/19.

Accession Number: 20190625-5072.

Comments Due: 5 p.m. ET 7/16/19.

Take notice that the Commission received the following public utility holding company filings:

Docket Numbers: PH19-13-000.

Applicants: Spire Inc.

Description: Spire Inc. submits FERC 65-A Notice of Material Change in Facts of Exemption Notification.

Filed Date: 6/25/19.

Accession Number: 20190625-5105.

Comments Due: 5 p.m. ET 7/16/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 25, 2019.
Nathaniel J. Davis, Sr.,
Deputy Secretary.

[FR Doc. 2019-13950 Filed 6-28-19; 8:45 am]

BILLING CODE 6717-01-P